DEPARTMENT OF ENERGY

Agency Information Collection Extension

AGENCY: Energy Efficiency and Renewable Energy, Department of Energy.

ACTION: Notice and request for comments.

SUMMARY: The Department of Energy (DOE), pursuant to the Paperwork Reduction Act (of 1995), intends to extend for three years, an information collection request with the Office of Management and Budget (OMB). The Department of Energy (DOE) Weatherization Assistance Program (WAP) is a formula grant funding program. DOE has developed four forms designed to reduce the length of time to input information and provide a consistent format for all States to submit as part of their State Application and Plan process. This activity will benefit the program and States because all forms are in electronic format that will populate a database for program information. The program information captured will be used to provide the most current program information for the budget, congressional and public inquires of the program. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 16, 2008. If you anticipate difficulty in submitting comments within that period, contact the person listed below as soon as possible.

ADDRESSES: Written comments may be sent to: Elnora Long, U.S. Department of Energy, EE-2-K/Forestal Building; 1000 Independence Ave., SW., Washington, DC 20585 or by fax at 202-586-1233 or by e-mail at elnora.long@ee.doe.gov.

FOR FURTHER INFORMATION CONTACT: Requests for additional information or copies of the information collection instrument and instructions should be directed to Elnora Long at the address listed above.

SUPPLEMENTARY INFORMATION: This information collection request contains: (1) OMB No. 1910-5127 (2) Information Collection Request Title: Weatherization Assistance Program; (3) Type of Review: Renewal; (4) Purpose: The Weatherization Assistance Program provides grants to States, the District of Columbia and Native American Tribes; Type of Respondents: States, District of Columbia, and Native American Tribes; (5) Respondents: 52; (6) Estimated Number of Burden Hours: 3 hours per Respondent.

Statutory Authority: 10 CFR part 440.

Issued in Washington, DC on March 5, 2008.
Ronald Shaw,
Acting Program Manager, Office of Weatherization and Intergovernmental Program, Energy Efficiency and Renewable Energy.

[FR Doc. E8-5270 Filed 3-14-08; 8:45 am]

BILLING CODE 6450-01-P